GENERAL SERVICES ADMINISTRATION

48 CFR Parts 501, 514, and 552

[GSAR Change 59; GSAR Case 2014-G501; Docket No. 2014-0007; Sequence No. 1]

RIN 3090-AJ47

General Services Administration Acquisition Regulation (GSAR); Progressive Awards and Monthly Quantity Allocations

AGENCY: Office of Acquisition Policy, General Services Administration.

ACTION: Final rule.

SUMMARY: The General Services Administration (GSA) is converting the proposed rule as a final rule amending the General Services Administration Acquisition Regulation (GSAR) to remove GSAR clause Progressive Awards and Monthly Quantity Allocations.

DATES: Effective Date: October 22, 2014.

FOR FURTHER INFORMATION CONTACT: Ms. Deborah Eble, Procurement Analyst, at 215-446-5823, or email at deborah.eble@gsa.gov, for clarification of content. For information pertaining to the status or publication schedules, contact the Regulatory Secretariat Division at 202-501-4755. Please cite GSAR Case 2014-G501.

SUPPLEMENTARY INFORMATION:

I. Background

GSA published a proposed rule in the Federal Register at 79 FR 24359, on April 30, 2014, amending the General Services Administration Acquisition Regulation (GSAR), to remove GSAR provision 552.214-71, Progressive Awards and Monthly Quantity Allocations, and provide other conforming changes. This rule is a result of the retrospective analysis conducted under Executive Order 13563, Improving Regulation and Regulatory Review, requiring agencies to review existing regulations and identify rules that are obsolete, unnecessary, unjustified, excessively burdensome or counterproductive and identify those rules that warrant repeal, amendment, or revision. GSA identified GSAR provision 552.214-71, Progressive Awards and Monthly Quantity Allocations as one of four information collections in GSA's Final Plan for Retrospective Analysis approved by the Office of Management and Budget on August 18, 2011. No comments were received on the proposed rule by the June 30, 2014 closing date. Therefore, the proposed rule is being converted to a final rule without change:

• Information Collection 3090-0200, Sealed Bidding, which references GSAR 552.214-71, Progressive Awards and Monthly Quantity Allocations, is deleted in its entirety.

• Under Subpart 501.106—GSAR references 514.201-7(a) and 552.214-71 and corresponding OMB Control Number 3090-0200, Sealed Bidding, are deleted.

• GSAR 514.201-7—Deleted in its entirety.

• GSAR 552.214-71—Deleted in its entirety.

II. Executive Orders 12866 and 13563

Executive Orders (E.O.s) 12866 and 13563 direct agencies to assess all costs and benefits of available regulatory alternatives; and, if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action and, therefore, was not subject to review under Section 6(b) of E.O. 12866, Regulatory Planning and Review, dated September 30, 1993. This rule is not a major rule under 5 U.S.C. 804.

III. Regulatory Flexibility Act

GSA has prepared a Final Regulatory Flexibility Analysis (FRFA) consistent with the Regulatory Flexibility Act, 5 U.S.C. 601, et seq. The FRFA is summarized as follows:

This final rule reduces the burden on small entities within the meaning of the Regulatory Flexibility Act, 5 U.S.C. 601, et seq., as the Information Collection 3090-0200, Sealed Bidding, citing provision 552.214-71, Progressive Awards and Monthly Quantity Allocations, is no longer used and is removed from the GSAR. Both large and small business entities will no longer be bound to submit data that the Government can freely obtain from variety of other sources.

No comments were filed by the Chief Counsel for Advocacy of the Small Business Administration.

Interested parties may obtain a copy of the FRFA from the Regulatory Secretariat. The Regulatory Secretariat has submitted a copy of the FRFA to the Chief Counsel for Advocacy of the Small Business Administration.

IV. Paperwork Reduction Act

The Paperwork Reduction Act (44 U.S.C. Chapter 35) does not apply. OMB approved the withdrawal and discontinuation of the Information Collection 3090-0200, Sealed Bidding, identifying GSAR Provision 552.214-71, Progressive Awards and Monthly Quantity Allocations, on August 14, 2014.

List of Subjects in 48 CFR Parts 501, 514, and 552

Government procurement.

Dated: October 16, 2014.
Jeffrey A. Koses,
Senior Procurement Executive, Director, Office of Acquisition Policy, Office of Governmentwide Policy.

Therefore, GSA amends 48 CFR parts 501, 514, and 552 as set forth below:

PART 501—GENERAL SERVICES ADMINISTRATION ACQUISITION REGULATION SYSTEM

1. The authority citation for 48 CFR part 501 continues to read as follows:

Authority: 40 U.S.C. 121(c).

501.106 [Amended]

2. Amend section 501.106 in the table, by removing, GSAR references “514.201-7(a)” and “552.214-71” and their corresponding OMB Control Number “3090-0200”.

PART 514—SEALED BIDDING

3. Revise the authority citation for 48 CFR part 514 to read as follows:

Authority: 40 U.S.C. 121(c).

514.201-7 [Removed and Reserved]

4. Remove and reserve section 514.201-7.

PART 552—SOLICITATION PROVISIONS AND CONTRACT CLAUSES

5. The authority citation for 48 CFR part 552 continues to read as follows:

Authority: 40 U.S.C. 121(c).

552.214-71 [Removed and Reserved]

6. Remove and reserve section 552.214-71.

[FR Doc. 2014-25158 Filed 10-21-14; 8:45 am]

BILLING CODE 6820-61-P